DEPARTMENT OF THE INTERIOR

Bureau of Ocean Energy Management

Bureau of Safety and Environmental Enforcement

[16761700D2 ET1EX0000.PEB000 EEAA000000]

Notice of Availability of Draft Programmatic Environmental Assessment To Evaluate Potential Environmental Effects of Well Stimulation Treatments on the Pacific Outer Continental Shelf

AGENCY: Bureau of Ocean Energy Management (BOEM), Interior; and Bureau of Safety and Environmental Enforcement (BSEE), Interior.

ACTION: Notice of availability.

SUMMARY: After an 11 month process that began in March of 2015, the Bureau of Ocean Energy Management (BOEM) and Bureau of Safety and Environmental Enforcement (BSEE) have prepared a Draft Programmatic Environmental Assessment (PEA) to evaluate potential environmental effects of well stimulation treatments (WSTs) on the Pacific Outer Continental Shelf (OCS). These activities include: Fracturing WSTs (Diagnostic fracture injection test; Frac pac; and Acid fracturing) and non-fracturing WSTs (Matrix acidizing; and Polymer/surfactant injection).

DATES: Comments on this Draft PEA will be accepted until March 23, 2016.

FOR FURTHER INFORMATION CONTACT: For more information on the Draft PEA, you may contact Mr. Rick Yarde, Regional Supervisor, Office of Environment Pacific Region, BOEM, (805) 384-6379 or Mr. David Fish, Acting Chief Environmental Compliance Division, BSEE, (202) 208-3599.

SUPPLEMENTARY INFORMATION: This NOA is published pursuant to the regulations (40 CFR part 1503) implementing the provisions of the National Environmental Policy Act (NEPA) of 1969, as amended, (42 U.S.C. 4321 et seq. (1988)). To obtain a copy of the Draft PEA:

1. You may download or view the Draft PEA on the following Web site: http://pocswellstim.evs.anl.gov.

2. Hard Copies are available at:

Santa Barbara Public Library, 40 E Anapamu St, Santa Barbara, CA 93101, (805) 962-7653;

E.P. Foster Library, 651 E. Main St., Ventura, CA 93001, (805) 648-2716; and

Long Beach Public Library, 101 Pacific Ave, Long Beach, CA 90822, (562) 570-7500.

3. You may also obtain a hard copy of the Draft PEA by contacting either Mr. Rick Yarde or Mr. David Fish.

Comments: Government agencies and other interested parties are requested to send their written comments on the Draft PEA in one of the following ways:

1. Preferred: Submit your comment on the project's public review Web site at: http://pocswellstim.evs.anl.gov/;

2. In an envelope labeled “Comments on the Draft PEA for Well Stimulation Treatments on the Pacific OCS” and mailed (or hand carried) to Mr. Rick Yarde, Regional Supervisor, Office of Environment Pacific Region, Bureau of Ocean Energy Management, 760 Paseo Camarillo, Suite 102 (CM102), Camarillo, CA 93010; or Mr. David Fish, Acting Chief Environmental Compliance Division, Bureau of Safety and Environmental Enforcement, 1849 C Street NW., Room 5429, Washington, DC 20240; and

3. By email to: pocswellstim@anl.gov.

Comments must be submitted by March 23, 2016.

Public Disclosure of Names and Addresses

Before including your address, phone number, email address or other personal identifying information in your comment, be advised that your entire comment, including your personal identifying information, may be made publicly available at any time. While you can ask us in your comment to withhold from public review your personal identifying information, we cannot guarantee that we will be able to do so. The Bureaus will not consider anonymous comments, and the Bureaus will make available for inspection, in their entirety, all comments submitted by organizations or businesses or by individuals identifying themselves as representatives of organizations or businesses.

Dated: February 9, 2016.
Brian Salerno,
Director, Bureau of Safety and Environmental Enforcement.
Dated: February 9, 2016.
Abigail Ross Hopper,
Director, Bureau of Ocean Energy Management.

[FR Doc. 2016-03600 Filed 2-19-16; 8:45 am]

BILLING CODE 4310-VH-P